DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before June 26, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-009-C.

Petitioner: Bridger Coal Company, 1088 Nine Mile Road, Point of Rocks, Wyoming 82942.

Mine: Bridger Underground Coal Mine, MSHA I.D. No. 48-01646, located in Sweetwater County, Wyoming.

Regulation Affected: 30 CFR 75.503 (Permissible electric face equipment; maintenance) and 18.35(a)(5)(i) (Portable trailing cables and cords).

Modification Request: The petitioner requests a modification of the existing standard to permit an increase of the maximum allowable length of trailing cables for supplying power to continuous mining machines, roof bolting machines, electric shuttle cars, feeder breakers, and auxiliary fans at the Bridger Underground Coal Mine. The petitioner states that:

(1) The maximum lengths of the trailing cables supplying power to three-phase 995-volt continuous mining machines will be 1,100 feet and those supplying power to three-phase 995-volt roof bolting machines, feeder breakers, and auxiliary fans will be 1,000 feet.

(2) The trailing cables for the 995-volt continuous mining machines and feeder breakers will not be smaller than #2/0 American Wire Gauge (AWG), SHD-GC. The trailing cables for the 995-volt roof bolting machines and auxiliary fans will not be smaller than #2 AWG, SHD-GC.

(3) All circuit breakers used to protect #2/0 AWG trailing cables exceeding 850 feet in length will have instantaneous trip units calibrated to trip at 1500 amperes. The trip setting of these circuit breakers will be sealed so that the setting cannot be changed and these circuit breakers will have permanent, legible labels. Each label will identify the circuit breaker as being suitable for protecting #2/0 AWG cables. The labels will be maintained legible.

(4) Replacement circuit breakers and/or instantaneous trip units used to protect #2/0 AWG trailing cables will be calibrated to trip at 1500 amperes and this setting will be sealed. A certification tag showing the maximum amps and the date certified by Intermountain Electronics of other MSHA-acceptable vendor will be attached to the circuit breaker or trip unit.

(5) The maximum length of the trailing cables supplying power to the three-phase 480-volt shuttle car(s) will not exceed 1,000 feet and will not be smaller than #2 AWG. Extended length trailing cable(s) used on shuttle cars will be three conductor round cable, Type G-GC, G, or G+GC. When a Type G-GC or Type G+GC round cable is used with wireless ground-wire monitoring, the ground check conductor will be connected as a ground conductor.

(6) All circuit breakers used to protect #2 AWG trailing cables exceeding 700 feet in length will have instantaneous trip units calibrated to trip at 800 amperes. The trip setting of these circuit breakers will be sealed or locked, and these circuit breakers will have permanent, legible labels. Each label will identify the circuit breaker as being suitable for protecting #2 AWG cables. The labels will be maintained legible.

(7) Replacement and/or instantaneous trip units used to protect #2 AWG trailing cables will be calibrated to trip at 800 amperes and this setting will be sealed. A certification tag showing the maximum amps and the date certified by Intermountain Electronics or another MSHA-acceptable vendor will be attached to the circuit breaker or trip unit.

(8) All components that provide short-circuit protection will have a sufficient interruption rating in accordance with the maximum calculated fault currents available. Short-circuit current setting must not exceed 75 percent of the minimum available current.

(9) The trailing cable for the continuous mining machines, auxiliary fans, and feeder breakers will be hung on well-insulated hangers from the section power center to the slack pile of the trailing cable for each machine or to the last open crosscut, whichever is further outby.

(10) During each production shift, persons designated by the mine operator will visually examine the trailing cables to ensure that the cables are in safe operating condition and that the instantaneous settings of the specially-calibrated circuit breaker settings, as stipulated previously, do not have seals removed or tampered with. The examination must verify that the cables are hung on insulated hangers and that excessive cable is not stored on the roof bolter and shuttle car cable reel(s). Any discrepancies must be corrected prior to operation.

(11) Permanent warning labels will be installed and maintained on the cover of the power center identifying the location of each sealed short-circuit protective device. These labels will warn miners not to change or alter these sealed short-circuit settings.

(12) In the event the mining methods or operating procedures cause or contribute to the damage of any trailing cable, the cable will be removed from service immediately and repaired or replaced. Also, additional precautions will be taken to ensure that the cable is protected and maintained in safe operating condition.

(13) The alternative method will not be implemented until all miners who have been designated to examine the integrity of seals, verify the short-circuit settings, and examine trailing cables for defects have received the elements of training contained in this petition.

(14) Within 60 days after the proposed decision and order becomes final, the petitioner will submit proposed revisions for their approved 30 CFR part 48 training plans to the District Manager. These revisions will specify task training for miners designated to examine the trailing cables for safe operating condition and verify that the short-circuit settings of the circuit-interrupting devices that protect the affecting trailing cables do not exceed the settings specified previously in this petition. The training will include the following elements:

(a) The hazards of setting the short circuit interrupting device too high to adequately protect the trailing cables.

(b) How to verify that the circuit interrupting device(s) protecting the trailing cable(s) are properly set and maintained.

(c) Mining methods and operating procedures that will protect the trailing cables against damage.

(d) Proper procedures for examining the trailing cables to ensure that the cables are in safe operating condition by visually inspecting the entire cable, observing the insulation, the integrity of splices, and any nicks or abrasions.

The petitioner asserts that the proposed alternative method will at all times guarantee at least the same measure of protection to the miners as would be provided by the existing standard.

Docket Number: M-2014-010-C.

Petitioner: Bridger Coal Company, P.O. Box 68, Point of Rocks, Wyoming.

Mine: Bridger Underground Coal Mine, MSHA I.D. No. 48-01646, located in Sweetwater County, Wyoming.

Regulation Affected: (30 CFR 75.500(d) (Permissible electric equipment).

Modification Request: The petitioner requests a modification of the existing standard to permit an alternative method of compliance to allow the use of battery-powered nonpermissible surveying equipment in or inby the last open crosscut, including, but not limited to, portable battery-operated mine transits, total station surveying equipment, distance meters, and data loggers. The petitioner states that:

(1) To comply with requirements for mine ventilation maps and mine maps in 30 CFR 75.372 and 75.1200, use of practical and accurate surveying equipment is necessary.

(2) Application of the existing standard would result in a diminution of safety to the miners. Coal mining by its nature and size and absolute necessity for accuracy requires accurate surveying measurements be completed in a very timely manner. The petitioner proposes the following as an alternative to the existing standard:

(a) Nonpermissible electronic surveying equipment will be used when the equivalent permissible electronic surveying equipment is not available. Such nonpermissible surveying equipment includes portable battery-operated total station surveying equipment, transits, distance meters, and data loggers.

(b) All nonpermissible electronic surveying equipment to be used in or inby the last open crosscut will be examined by surveying personnel prior to use to ensure the equipment is being maintained in a safe operating condition. These examinations will include the following steps:

(i) Checking the electronic surveying equipment for any obvious physical damage, including the case.

(ii) Removing the battery and inspecting for corrosion.

(iii) Inspecting the contact points to ensure a secure connection to the battery.

(iv) Reinserting the battery and powering up and shutting down to ensure proper connections.

(c) The results of such examinations will be recorded and retained for six months and made available to MSHA on request.

(d) A qualified person as defined in 30 CFR 75.151 will continuously monitor for methane immediately before and during the use of nonpermissible surveying equipment in or inby the last open crosscut.

(e) Nonpermissible surveying equipment will not be used if methane is detected in concentrations at or above one percent for the area being surveyed.

(f) All hand-held methane detectors will be MSHA-approved and maintained in permissible and proper operating condition as defined in 30 CFR 75.320.

(g) Batteries in the surveying equipment will be changed out or charged in fresh air outby the last open crosscut.

(h) Qualified personnel who use surveying equipment will be properly trained to recognize the hazards associated with the use of nonpermissible surveying equipment in areas where methane could be present.

(i) The nonpermissible surveying equipment will not be put into service until MSHA has initially inspected the equipment and determined that it is in compliance with all the terms and conditions in this petition.

Within 60 days after the proposed decision and order becomes final, the petitioner will submit proposed revisions to the approved part 48 training plan to the District Manager. These proposed revisions will include the initial and refresher training regarding compliance with the terms and conditions stated in the proposed decision and order.

The petitioner asserts that the proposed alternative method will at all times guarantee no less than the same measure of protection as that afforded by the existing standard.

Docket Number: M-2014-011-C.

Petitioner: CONSOL Pennsylvania Coal Company, LLC, CONSOL Energy Inc., CNX Center, 1000 CONSOL Energy Drive, Canonsburg, Pennsylvania 15317-6506.

Mine: Enlow Fork Mine, MSHA I.D. No. 36-07416, located in Greene County, Pennsylvania.

Regulation Affected: (30 CFR 75.1700 (Oil and gas wells).

Modification Request: The petitioner requests a modification of the existing standard to permit an alternative method of compliance with respect to vertical to horizontal oil and gas wells. The petitioner proposes to plug vertical to horizontal oil and gas shale wells to mine through them.

I. The petitioner proposes to use the following procedures for preparing and plugging vertical to horizontal oil and gas shale wells:

(a) When preparing and plugging vertical to horizontal oil and gas shale wells that has not been previously plugged, the petitioner proposes to use the following procedure to ensure that no gas from the well reaches the lowest mineable coal seam and to prepare the well to be plugged for mining through the wellbore:

(1) The wellbore will be filled with water, and/or an approved equivalent to load the hole and control the well.

(2) The vertical well will be plugged to its attainable depth using approved mechanical bridge plug(s), cement, fly ash cement, gel, and/or other approved materials as required by Federal and State laws, regulations, and standards to effectively isolate and seal the oil/gas producing zones from the vertical well to protect the mineable coal seams and the environment to a location within the wellbore approximately 200 feet below the lowest mineable coal seam.

(3) An affidavit of the vertical well plugging will be provided to the coal mining regulatory agencies.

(b) The petitioner proposes to use the following procedure to prepare the plugged well for mining through when the well has been previously plugged in accordance with Federal and State laws, regulations, and standards to effectively isolate and seal the oil/gas producing zones from the vertical well to protect the mineable coal seams and the environment.

(1) An affidavit of the original well plugging will be thoroughly reviewed and provided to the coal mining regulatory agencies.

(2) The well will be effectively cleaned to a depth that would permit placement of at least 200 feet of expanding cement below the base of the lowest mineable coal seam.

(c) The petitioner proposes to use the following procedures to complete the well plugging and prepare the well for mine-through when a well has been effectively plugged in accordance with Federal and State laws, regulations, and standards to effectively isolate and seal the oil/gas producing zones to a location within the wellbore approximately 200 feet from the lowest mineable coal seam:

(1) A suite of logs will be made consisting of a caliper survey, directional deviation survey, and log(s) suitable for determining the top and bottom of the lowest mineable coal seam and potential hydrocarbon-producing strata.

(2) The wellbore will be effectively cleaned to a depth at least 200 feet below the lowest mineable coal seam and the wellbore will be filled and circulated with a gel to inhibit the flow of any gases, support the wellbore, and aid the introduction of the expanding cement.

(3) The well casing(s) will be effectively milled, cut, or perforated from the inner casing to the geologic strata at locations approximately 200 feet and approximately 100 feet below the lowest mineable coal seam.

(4) The well casing(s) will be effectively milled or cut sufficiently below, throughout, and above the coal seam to be mined to enable the coal seam to be safely and effectively mined through the plugged wellbore.

(5) A minimum of 200 feet of expanding cement will be effectively placed in the wellbore below the lowest mineable coal seam and to a point not less than 100 feet above the top of the highest mineable coal seam.

(6) Expanding cement, Portland cement, a cement fly ash mixture, or an approved equivalent, will be effectively placed from the top of the expanding cement to the surface.

(7) A monument with an API number will be installed at the plugged well location.

(8) An affidavit will be filed setting forth the persons who participated in the work, a description of the plugging work, and a certification by the petitioner that the well has been plugged as described.

II. The petitioner proposes to use the following procedures for mining through a plugged vertical to horizontal oil or gas well by the continuous mining method:

(1) Prior to mining within 300 feet of the well, the MSHA District Office will be notified verbally and with a letter and a drawing detailing the well location. If according to the down-hole deviation survey a plugged well is found to be located within 20 feet of projected mining, the procedures and safeguards listed below will be utilized. All distances will be measured along a line drawn perpendicular to the entry or crosscut being mined and the plugged well.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the location of the well (on the intake side) being cut-through. No persons will be allowed in the section return downwind of the cut-through, but will be allowed in the return downwind of the location where the section return mixes with another return split of air if this point is more than 1,000 feet from the location of the well. When the distance from the well is within 10 feet of touching the wellbore, all workers and responsible persons will be notified and no mining will be done until all persons except those mentioned above have been withdrawn outby the affected area. The well will be surveyed and located as to know when to stop mining.

(4) When mining approaches within 10 feet of cutting into the plugged well, a designated person in each operating section will be posted near the section phone (within hearing distance), or monitoring a radio on a designated channel until the cut-through is complete and an “ALL CLEAR” command is given. All miners in the outby areas of the mine will be working at known locations within radio or telephone communications. There will be no activities in remote areas without communications, ensuring quick evacuation of the mine in the event of any emergency at the cut-through area. The communication system will be checked at the beginning of the shift and within 10 feet of the cut-through.

(5) Firefighting equipment, including fire extinguishers, rock dust and enough fire hose to reach the working face will be available near the working area.

(6) Sufficient supplies of roof support and ventilation materials will be available near the working area.

(7) A minimum of 5,000 cubic feet of air per minute will be used to ventilate the working face during the mining-through operation. The ventilation plan and methane and dust control plan will be complied with.

(8) The equipment will be checked for permissibility and serviced on the shift prior to mining through the well.

(9) The methane monitor on the continuous mining machine will be calibrated on the shift prior to mining through the well. The calibration may be checked during the first half of the shift if the well is to be intersected during the section half of the shift.

(10) Drivage sights will be installed at the last open crosscut near the place to be mined to ensure intersection of the well. A laser or additional drivage sights will be used to ensure that the sight line is not more than 50 feet from the well.

(11) The working place will be free from accumulations of coal dust and coal spillages, and rock dust will be placed on the roof, rib, and floor to within 20 feet of the face when mining through the well.

(12) Tests for methane will be made with a hand-held methane detector and a probe at least every 10 minutes when mining within 30 feet of the well. These methane tests will continue until the gas well is intersected. A test for methane will also be made immediately prior to the anticipated mining through of the gas well.

(13) Immediately after the well is intersected, all equipment located in or inby the last open crosscut such as the continuous mining machine, the loader, the shuttle car, the face fan and roof bolter machine will be de-energized and the place thoroughly examined and determined safe by a certified foreman before mining is resumed. The face fan may be left energized to ventilate the working place provided someone is stationed at the discharge end of the fan and is continuously monitoring the methane. If the methane level in the discharge of the fan reaches one percent, the fan will be deenergized. Any well casing will be removed and no open flame will be permitted in the area until adequate ventilation has been established around the well. After the well cut-through is complete and the area is determined safe by a certified person, the miners outby the affected area may enter the section return and the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

III. The petitioner proposes to use following procedures and safeguards for mining past a plugged gas or oil well by the continuous mining method (greater than 20 feet away but less than 30 feet):

(a) If through mapping and plotting of a down-hole deviation survey of a plugged oil or gas well, mining will be greater than 20 feet away but less than 30 feet away from the well as measured from projected rib line, the following plan will be used:

(1) Prior to mining within 300 feet of the well, the MSHA District Office will be notified verbally and with a letter and a drawing detailing the well location.

(2) When mining is within 30 feet of a line drawn perpendicular to the entry or crosscut being mined and the plugged well, tests of methane will be made with a hand-held methane detector and a probe at least every 10 minutes. These methane tests will continue until mining has progressed to a point inby the perpendicular line.

(3) All other cut-through procedures do not apply to plugged oil or gas wells greater than 20 feet away but less than 30 feet away from projected mining.

IV. The petitioner proposes to use the following procedures and safeguards for mining past a plugged gas or oil well by the continuous mining method (greater than 30 feet):

(a) If through mapping and plotting of a down-hole deviation survey of a plugged oil or gas well, mining will be greater than 30 feet from the well as measured from projected rib line, the following plan will be used:

(1) Prior to mining within 300 feet of the well, the MSHA District Office will be notified verbally and with a letter and a drawing detailing the well location.

(2) Cut-through procedures do not apply to plugged oil or gas wells greater than 30 feet away from projected mining.

V. The petitioner proposes to use the following procedures and safeguards for mining through a plugged gas or oil well by the longwall mining method:

(1) Prior to mining within 300 feet of the well, the MSHA District Office will be notified verbally and with a letter and a drawing detailing the well location.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the longwall face. When the distance from the well is within 10 feet of touching the wellbore, all workers or responsible persons will be notified and no mining will be done within 20 feet on either side of the well until all persons except those mentioned above have been withdrawn outby the affected area. The well will be surveyed and located to know when to stop mining.

(4) When mining approaches within 10 feet of cutting into the plugged well, a designated person in each operating section will be posted near the section phone (within hearing distance), or monitoring a radio on a designated channel until the cut-through is complete and an “ALL CLEAR” command is given by a certified person. All miners in the outby areas of the mine will be working at known locations within radio or telephone communications. There will be no activities in remote areas without communications, ensuring quick evacuation of the mine in the event of any emergency at the cut-through area. The communication system will be checked at the beginning of the shift and when within 10 feet of the cut-through.

(5) Firefighting equipment, including fire extinguishers, rock dust and enough fire hose to reach the working face will be available in the immediate area of the longwall.

(6) Sufficient supplies of roof support and ventilation materials will be available in the immediate area of the longwall.

(7) The latest approved ventilation plan requirement for air reaching the longwall face and required face velocities will be maintained during the mining-through operation. The ventilation plan and methane and dust control plan will be complied with.

(8) Equipment will be checked for permissibility and serviced on the shift prior to mining through the well.

(9) The methane monitors on the longwall will be calibrated on the shift prior to mining through the well. The calibration may be checked during the first half of the shift if the well is to be intersected during the section half of the shift.

(10) Special location spads will be in the tailgate and headgate entries to define the exact location of the plugged well. An additional spad or marked area will be installed 20 feet from the location. In addition, the shields adjacent to a 10 foot radius of the well will be identified.

(11) A normal mining rate will be maintained across the longwall face except in the area defined by a 10 foot radius of the plugged well. Mining through this area will be done at a reduced mining rate until the wellbore is contacted.

(12) When mining is in progress and the longwall face is within 10 feet of the well, tests for methane will be made with a hand-held methane detector on every pass across the longwall face or at a maximum of every 10 minutes. These tests will be made until the well is intersected.

(13) Immediately after the well is intersected, all equipment on the longwall face such as the shearer, the stageloader and the face conveyor will be deenergized and the place thoroughly examined by a certified foreman and determined safe before mining is resumed. Any well casing will be removed and no open flame will be permitted in the area until adequate ventilation has been established around the well. After the well cut-through is complete and the area is determined safe, the miners may enter the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

The petitioner asserts that the proposed alternative method will at all times guarantee no less than the same measure or protection afforded by the existing standard.

Docket Number: M-2014-012-C.

Petitioner: CONSOL Pennsylvania Coal Company, LLC, CONSOL Energy Inc., CNX Center, 1000 CONSOL Energy Drive, Canonsburg, Pennsylvania 15317-6506.

Mine: Bailey Mine, MSHA I.D. No. 36-07230, located in Greene County, Pennsylvania.

Regulation Affected: (30 CFR 75.1700 (Oil and gas wells).

Modification Request: The petitioner requests a modification of the existing standard to permit an alternative method of compliance with respect to vertical to horizontal oil and gas wells. The petitioner proposes to plug vertical to horizontal oil and gas shale wells to mine through them.

I. The petitioner proposes to use the following procedures for preparing and plugging vertical to horizontal oil and gas shale wells:

(a) When preparing and plugging vertical to horizontal oil and gas shale wells that has not been previously plugged, the petitioner proposes to use the following procedure to ensure that no gas from the well reaches the lowest mineable coal seam and to prepare the well to be plugged for mining through the wellbore:

(1) The wellbore will be filled with water, and/or an approved equivalent to load the hole and control the well.

(2) The vertical well will be plugged to its attainable depth using approved mechanical bridge plug(s), cement, fly ash cement, gel, and/or other approved materials as required by Federal and State laws, regulations, and standards to effectively isolate and seal the oil/gas producing zones from the vertical well to protect the mineable coal seams and the environment to a location within the wellbore approximately 200 feet below the lowest mineable coal seam.

(3) An affidavit of the vertical well plugging will be provided to the coal mining regulatory agencies.

(b) The petitioner proposes to use the following procedure to prepare the plugged well for mining through when the well has been previously plugged in accordance with Federal and State laws, regulations, and standards to effectively isolate and seal the oil/gas producing zones from the vertical well to protect the mineable coal seams and the environment.

(1) An affidavit of the original well plugging will be thoroughly reviewed and provided to the coal mining regulatory agencies.

(2) The well will be effectively cleaned to a depth that would permit placement of at least 200 feet of expanding cement below the base of the lowest mineable coal seam.

(c) The petitioner proposes to use the following procedures to complete the well plugging and prepare the well for mine-through when a well has been effectively plugged in accordance with Federal and State laws, regulations, and standards to effectively isolate and seal the oil/gas producing zones to a location within the wellbore approximately 200 feet from the lowest mineable coal seam:

(1) A suite of logs will be made consisting of a caliper survey, directional deviation survey, and log(s) suitable for determining the top and bottom of the lowest mineable coal seam and potential hydrocarbon-producing strata.

(2) The wellbore will be effectively cleaned to a depth at least 200 feet below the lowest mineable coal seam and the wellbore will be filled and circulated with a gel to inhibit the flow of any gases, support the wellbore, and aid the introduction of the expanding cement.

(3) The well casing(s) will be effectively milled, cut, or perforated from the inner casing to the geologic strata at locations approximately 200 feet and approximately 100 feet below the lowest mineable coal seam.

(4) The well casing(s) will be effectively milled or cut sufficiently below, throughout, and above the coal seam to be mined to enable the coal seam to be safely and effectively mined through the plugged wellbore.

(5) A minimum of 200 feet of expanding cement will be effectively placed in the wellbore below the lowest mineable coal seam and to a point not less than 100 feet above the top of the highest mineable coal seam.

(6) Expanding cement, Portland cement, a cement fly ash mixture, or an approved equivalent, will be effectively placed from the top of the expanding cement to the surface.

(7) A monument with an API number will be installed at the plugged well location.

(8) An affidavit will be filed setting forth the persons who participated in the work, a description of the plugging work, and a certification by the petitioner that the well has been plugged as described.

II. The petitioner proposes to use the following procedures for mining through a plugged vertical to horizontal oil or gas well by the continuous mining method:

(1) Prior to mining within 300 feet of the well, the MSHA District Office will be notified verbally and with a letter and a drawing detailing the well location. If according to the down-hole deviation survey a plugged well is found to be located within 20 feet of projected mining, the procedures and safeguards listed below will be utilized. All distances will be measured along a line drawn perpendicular to the entry or crosscut being mined and the plugged well.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the location of the well (on the intake side) being cut-through. No persons will be allowed in the section return downwind of the cut-through, but will be allowed in the return downwind of the location where the section return mixes with another return split of air if this point is more than 1,000 feet from the location of the well. When the distance from the well is within 10 feet of touching the wellbore, all workers and responsible persons will be notified and no mining will be done until all persons except those mentioned above have been withdrawn outby the affected area. The well will be surveyed and located as to know when to stop mining.

(4) When mining approaches within 10 feet of cutting into the plugged well, a designated person in each operating section will be posted near the section phone (within hearing distance), or monitoring a radio on a designated channel until the cut-through is complete and an “ALL CLEAR” command is given. All miners in the outby areas of the mine will be working at known locations within radio or telephone communications. There will be no activities in remote areas without communications, ensuring quick evacuation of the mine in the event of any emergency at the cut-through area. The communication system will be checked at the beginning of the shift and within 10 feet of the cut-through.

(5) Firefighting equipment, including fire extinguishers, rock dust and enough fire hose to reach the working face will be available near the working area.

(6) Sufficient supplies of roof support and ventilation materials will be available near the working area.

(7) A minimum of 5,000 cubic feet of air per minute will be used to ventilate the working face during the mining-through operation. The ventilation plan and methane and dust control plan will be complied with.

(8) The equipment will be checked for permissibility and serviced on the shift prior to mining through the well.

(9) The methane monitor on the continuous mining machine will be calibrated on the shift prior to mining through the well. The calibration may be checked during the first half of the shift if the well is to be intersected during the section half of the shift.

(10) Drivage sights will be installed at the last open crosscut near the place to be mined to ensure intersection of the well. A laser or additional drivage sights will be used to ensure that the sight line is not more than 50 feet from the well.

(11) The working place will be free from accumulations of coal dust and coal spillages, and rock dust will be placed on the roof, rib, and floor to within 20 feet of the face when mining through the well.

(12) Tests for methane will be made with a hand-held methane detector and a probe at least every 10 minutes when mining within 30 feet of the well. These methane tests will continue until the gas well is intersected. A test for methane will also be made immediately prior to the anticipated mining through of the gas well.

(13) Immediately after the well is intersected, all equipment located in or inby the last open crosscut such as the continuous mining machine, the loader, the shuttle car, the face fan and roof bolter machine will be de-energized and the place thoroughly examined and determined safe by a certified foreman before mining is resumed. The face fan may be left energized to ventilate the working place provided someone is stationed at the discharge end of the fan and is continuously monitoring the methane. If the methane level in the discharge of the fan reaches one percent, the fan will be deenergized. Any well casing will be removed and no open flame will be permitted in the area until adequate ventilation has been established around the well. After the well cut-through is complete and the area is determined safe by a certified person, the miners outby the affected area may enter the section return and the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

III. The petitioner proposes to use following procedures and safeguards for mining past a plugged gas or oil well by the continuous mining method (greater than 20 feet away but less than 30 feet):

(a) If through mapping and plotting of a down-hole deviation survey of a plugged oil or gas well, mining will be greater than 20 feet away but less than 30 feet away from the well as measured from projected rib line, the following plan will be used:

(1) Prior to mining within 300 feet of the well, the MSHA District Office will be notified verbally and with a letter and a drawing detailing the well location.

(2) When mining is within 30 feet of a line drawn perpendicular to the entry or crosscut being mined and the plugged well, tests of methane will be made with a hand-held methane detector and a probe at least every 10 minutes. These methane tests will continue until mining has progressed to a point inby the perpendicular line.

(3) All other cut-through procedures do not apply to plugged oil or gas wells greater than 20 feet away but less than 30 feet away from projected mining.

IV. The petitioner proposes to use the following procedures and safeguards for mining past a plugged gas or oil well by the continuous mining method (greater than 30 feet):

(a) If through mapping and plotting of a down-hole deviation survey of a plugged oil or gas well, mining will be greater than 30 feet from the well as measured from projected rib line, the following plan will be used:

(1) Prior to mining within 300 feet of the well, the MSHA District Office will be notified verbally and with a letter and a drawing detailing the well location.

(2) Cut-through procedures do not apply to plugged oil or gas wells greater than 30 feet away from projected mining.

V. The petitioner proposes to use the following procedures and safeguards for mining through a plugged gas or oil well by the longwall mining method:

(1) Prior to mining within 300 feet of the well, the MSHA District Office will be notified verbally and with a letter and a drawing detailing the well location.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the longwall face. When the distance from the well is within 10 feet of touching the wellbore, all workers or responsible persons will be notified and no mining will be done within 20 feet on either side of the well until all persons except those mentioned above have been withdrawn outby the affected area. The well will be surveyed and located to know when to stop mining.

(4) When mining approaches within 10 feet of cutting into the plugged well, a designated person in each operating section will be posted near the section phone (within hearing distance), or monitoring a radio on a designated channel until the cut-through is complete and an “ALL CLEAR” command is given by a certified person. All miners in the outby areas of the mine will be working at known locations within radio or telephone communications. There will be no activities in remote areas without communications, ensuring quick evacuation of the mine in the event of any emergency at the cut-through area. The communication system will be checked at the beginning of the shift and when within 10 feet of the cut-through.

(5) Firefighting equipment, including fire extinguishers, rock dust and enough fire hose to reach the working face will be available in the immediate area of the longwall.

(6) Sufficient supplies of roof support and ventilation materials will be available in the immediate area of the longwall.

(7) The latest approved ventilation plan requirement for air reaching the longwall face and required face velocities will be maintained during the mining-through operation. The ventilation plan and methane and dust control plan will be complied with.

(8) Equipment will be checked for permissibility and serviced on the shift prior to mining through the well.

(9) The methane monitors on the longwall will be calibrated on the shift prior to mining through the well. The calibration may be checked during the first half of the shift if the well is to be intersected during the section half of the shift.

(10) Special location spads will be in the tailgate and headgate entries to define the exact location of the plugged well. An additional spad or marked area will be installed 20 feet from the location. In addition, the shields adjacent to a 10 foot radius of the well will be identified.

(11) A normal mining rate will be maintained across the longwall face except in the area defined by a 10 foot radius of the plugged well. Mining through this area will be done at a reduced mining rate until the wellbore is contacted.

(12) When mining is in progress and the longwall face is within 10 feet of the well, tests for methane will be made with a hand-held methane detector on every pass across the longwall face or at a maximum of every 10 minutes. These tests will be made until the well is intersected.

(13) Immediately after the well is intersected, all equipment on the longwall face such as the shearer, the stageloader and the face conveyor will be deenergized and the place thoroughly examined by a certified foreman and determined safe before mining is resumed. Any well casing will be removed and no open flame will be permitted in the area until adequate ventilation has been established around the well. After the well cut-through is complete and the area is determined safe, the miners may enter the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

The petitioner asserts that the proposed alternative method will at all times guarantee no less than the same measure or protection afforded by the existing standard.

Docket Number: M-2014-013-C.

Petitioner: CONSOL Pennsylvania Coal Company, LLC, CONSOL Energy Inc., CNX Center, 1000 CONSOL Energy Drive, Canonsburg, Pennsylvania 15317-6506.

Mine: BMX Mine, MSHA I.D. No. 36-10045, located in Greene County, Pennsylvania.

Regulation Affected: (30 CFR 75.1700 (Oil and gas wells).

Modification Request: The petitioner requests a modification of the existing standard to permit an alternative method of compliance with respect to vertical to horizontal oil and gas wells. The petitioner proposes to plug vertical to horizontal oil and gas shale wells to mine through them.

I. The petitioner proposes to use the following procedures for preparing and plugging vertical to horizontal oil and gas shale wells:

(a) When preparing and plugging vertical to horizontal oil and gas shale wells that has not been previously plugged, the petitioner proposes to use the following procedure to ensure that no gas from the well reaches the lowest mineable coal seam and to prepare the well to be plugged for mining through the wellbore:

(1) The wellbore will be filled with water, and/or an approved equivalent to load the hole and control the well.

(2) The vertical well will be plugged to its attainable depth using approved mechanical bridge plug(s), cement, fly ash cement, gel, and/or other approved materials as required by Federal and State laws, regulations, and standards to effectively isolate and seal the oil/gas producing zones from the vertical well to protect the mineable coal seams and the environment to a location within the wellbore approximately 200 feet below the lowest mineable coal seam.

(3) An affidavit of the vertical well plugging will be provided to the coal mining regulatory agencies.

(b) The petitioner proposes to use the following procedure to prepare the plugged well for mining through when the well has been previously plugged in accordance with Federal and State laws, regulations, and standards to effectively isolate and seal the oil/gas producing zones from the vertical well to protect the mineable coal seams and the environment.

(1) An affidavit of the original well plugging will be thoroughly reviewed and provided to the coal mining regulatory agencies.

(2) The well will be effectively cleaned to a depth that would permit placement of at least 200 feet of expanding cement below the base of the lowest mineable coal seam.

(c) The petitioner proposes to use the following procedures to complete the well plugging and prepare the well for mine-through when a well has been effectively plugged in accordance with Federal and State laws, regulations, and standards to effectively isolate and seal the oil/gas producing zones to a location within the wellbore approximately 200 feet from the lowest mineable coal seam:

(1) A suite of logs will be made consisting of a caliper survey, directional deviation survey, and log(s) suitable for determining the top and bottom of the lowest mineable coal seam and potential hydrocarbon-producing strata.

(2) The wellbore will be effectively cleaned to a depth at least 200 feet below the lowest mineable coal seam and the wellbore will be filled and circulated with a gel to inhibit the flow of any gases, support the wellbore, and aid the introduction of the expanding cement.

(3) The well casing(s) will be effectively milled, cut, or perforated from the inner casing to the geologic strata at locations approximately 200 feet and approximately 100 feet below the lowest mineable coal seam.

(4) The well casing(s) will be effectively milled or cut sufficiently below, throughout, and above the coal seam to be mined to enable the coal seam to be safely and effectively mined through the plugged wellbore.

(5) A minimum of 200 feet of expanding cement will be effectively placed in the wellbore below the lowest mineable coal seam and to a point not less than 100 feet above the top of the highest mineable coal seam.

(6) Expanding cement, Portland cement, a cement fly ash mixture, or an approved equivalent, will be effectively placed from the top of the expanding cement to the surface.

(7) A monument with an API number will be installed at the plugged well location.

(8) An affidavit will be filed setting forth the persons who participated in the work, a description of the plugging work, and a certification by the petitioner that the well has been plugged as described.

II. The petitioner proposes to use the following procedures for mining through a plugged vertical to horizontal oil or gas well by the continuous mining method:

(1) Prior to mining within 300 feet of the well, the MSHA District Office will be notified verbally and with a letter and a drawing detailing the well location. If according to the down-hole deviation survey a plugged well is found to be located within 20 feet of projected mining, the procedures and safeguards listed below will be utilized. All distances will be measured along a line drawn perpendicular to the entry or crosscut being mined and the plugged well.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the location of the well (on the intake side) being cut-through. No persons will be allowed in the section return downwind of the cut-through, but will be allowed in the return downwind of the location where the section return mixes with another return split of air if this point is more than 1,000 feet from the location of the well. When the distance from the well is within 10 feet of touching the wellbore, all workers and responsible persons will be notified and no mining will be done until all persons except those mentioned above have been withdrawn outby the affected area. The well will be surveyed and located as to know when to stop mining.

(4) When mining approaches within 10 feet of cutting into the plugged well, a designated person in each operating section will be posted near the section phone (within hearing distance), or monitoring a radio on a designated channel until the cut-through is complete and an “ALL CLEAR” command is given. All miners in the outby areas of the mine will be working at known locations within radio or telephone communications. There will be no activities in remote areas without communications, ensuring quick evacuation of the mine in the event of any emergency at the cut-through area. The communication system will be checked at the beginning of the shift and within 10 feet of the cut-through.

(5) Firefighting equipment, including fire extinguishers, rock dust and enough fire hose to reach the working face will be available near the working area.

(6) Sufficient supplies of roof support and ventilation materials will be available near the working area.

(7) A minimum of 5,000 cubic feet of air per minute will be used to ventilate the working face during the mining-through operation. The ventilation plan and methane and dust control plan will be complied with.

(8) The equipment will be checked for permissibility and serviced on the shift prior to mining through the well.

(9) The methane monitor on the continuous mining machine will be calibrated on the shift prior to mining through the well. The calibration may be checked during the first half of the shift if the well is to be intersected during the section half of the shift.

(10) Drivage sights will be installed at the last open crosscut near the place to be mined to ensure intersection of the well. A laser or additional drivage sights will be used to ensure that the sight line is not more than 50 feet from the well.

(11) The working place will be free from accumulations of coal dust and coal spillages, and rock dust will be placed on the roof, rib, and floor to within 20 feet of the face when mining through the well.

(12) Tests for methane will be made with a hand-held methane detector and a probe at least every 10 minutes when mining within 30 feet of the well. These methane tests will continue until the gas well is intersected. A test for methane will also be made immediately prior to the anticipated mining through of the gas well.

(13) Immediately after the well is intersected, all equipment located in or inby the last open crosscut such as the continuous mining machine, the loader, the shuttle car, the face fan and roof bolter machine will be de-energized and the place thoroughly examined and determined safe by a certified foreman before mining is resumed. The face fan may be left energized to ventilate the working place provided someone is stationed at the discharge end of the fan and is continuously monitoring the methane. If the methane level in the discharge of the fan reaches one percent, the fan will be deenergized. Any well casing will be removed and no open flame will be permitted in the area until adequate ventilation has been established around the well. After the well cut-through is complete and the area is determined safe by a certified person, the miners outby the affected area may enter the section return and the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

III. The petitioner proposes to use following procedures and safeguards for mining past a plugged gas or oil well by the continuous mining method (greater than 20 feet away but less than 30 feet):

(a) If through mapping and plotting of a down-hole deviation survey of a plugged oil or gas well, mining will be greater than 20 feet away but less than 30 feet away from the well as measured from projected rib line, the following plan will be used:

(1) Prior to mining within 300 feet of the well, the MSHA District Office will be notified verbally and with a letter and a drawing detailing the well location.

(2) When mining is within 30 feet of a line drawn perpendicular to the entry or crosscut being mined and the plugged well, tests of methane will be made with a hand-held methane detector and a probe at least every 10 minutes. These methane tests will continue until mining has progressed to a point inby the perpendicular line.

(3) All other cut-through procedures do not apply to plugged oil or gas wells greater than 20 feet away but less than 30 feet away from projected mining.

IV. The petitioner proposes to use the following procedures and safeguards for mining past a plugged gas or oil well by the continuous mining method (greater than 30 feet):

(a) If through mapping and plotting of a down-hole deviation survey of a plugged oil or gas well, mining will be greater than 30 feet from the well as measured from projected rib line, the following plan will be used:

(1) Prior to mining within 300 feet of the well, the MSHA District Office will be notified verbally and with a letter and a drawing detailing the well location.

(2) Cut-through procedures do not apply to plugged oil or gas wells greater than 30 feet away from projected mining.

V. The petitioner proposes to use the following procedures and safeguards for mining through a plugged gas or oil well by the longwall mining method:

(1) Prior to mining within 300 feet of the well, the MSHA District Office will be notified verbally and with a letter and a drawing detailing the well location.

(2) All personnel working underground will be informed of the cut-through, the evacuation, and communication procedures to be used at the beginning of the shift in which a well will be cut-through. Management will ensure that all personnel can be promptly informed of any problem that might develop and of evacuation (if required) during the well cut-through.

(3) The mining through will be done at a time when only those miners actually engaged in the mining-through operation, and those necessary to operate ancillary equipment (haulage, conveyors, ventilation, etc.) are within 1,000 feet of the longwall face. When the distance from the well is within 10 feet of touching the wellbore, all workers or responsible persons will be notified and no mining will be done within 20 feet on either side of the well until all persons except those mentioned above have been withdrawn outby the affected area. The well will be surveyed and located to know when to stop mining.

(4) When mining approaches within 10 feet of cutting into the plugged well, a designated person in each operating section will be posted near the section phone (within hearing distance), or monitoring a radio on a designated channel until the cut-through is complete and an “ALL CLEAR” command is given by a certified person. All miners in the outby areas of the mine will be working at known locations within radio or telephone communications. There will be no activities in remote areas without communications, ensuring quick evacuation of the mine in the event of any emergency at the cut-through area. The communication system will be checked at the beginning of the shift and when within 10 feet of the cut-through.

(5) Firefighting equipment, including fire extinguishers, rock dust and enough fire hose to reach the working face will be available in the immediate area of the longwall.

(6) Sufficient supplies of roof support and ventilation materials will be available in the immediate area of the longwall.

(7) The latest approved ventilation plan requirement for air reaching the longwall face and required face velocities will be maintained during the mining-through operation. The ventilation plan and methane and dust control plan will be complied with.

(8) Equipment will be checked for permissibility and serviced on the shift prior to mining through the well.

(9) The methane monitors on the longwall will be calibrated on the shift prior to mining through the well. The calibration may be checked during the first half of the shift if the well is to be intersected during the section half of the shift.

(10) Special location spads will be in the tailgate and headgate entries to define the exact location of the plugged well. An additional spad or marked area will be installed 20 feet from the location. In addition, the shields adjacent to a 10 foot radius of the well will be identified.

(11) A normal mining rate will be maintained across the longwall face except in the area defined by a 10 foot radius of the plugged well. Mining through this area will be done at a reduced mining rate until the wellbore is contacted.

(12) When mining is in progress and the longwall face is within 10 feet of the well, tests for methane will be made with a hand-held methane detector on every pass across the longwall face or at a maximum of every 10 minutes. These tests will be made until the well is intersected.

(13) Immediately after the well is intersected, all equipment on the longwall face such as the shearer, the stageloader and the face conveyor will be deenergized and the place thoroughly examined by a certified foreman and determined safe before mining is resumed. Any well casing will be removed and no open flame will be permitted in the area until adequate ventilation has been established around the well. After the well cut-through is complete and the area is determined safe, the miners may enter the affected area.

(14) The mining-through operation will be under the direct supervision of the mine foreman or a certified person designated by the mine foreman. Instructions concerning the mining-through operation will be issued only by the mine foreman or the certified person designated by the mine foreman to be in charge.

(15) The MSHA field office will be notified in sufficient time prior to mining-through, to have a representative present during the actual mining-through if necessary.

(16) The mining procedures and a drawing of the area will be reviewed with all personnel involved in the mining-through operation prior to the intersection of the plugged well.

The petitioner asserts that the proposed alternative method will at all times guarantee no less than the same measure or protection afforded by the existing standard.

Docket Number: M-2014-014-C.

Petitioner: Sebastian Management, LLC, 1100 South Pine Street, P.O. Box 339, Hartford, Arizona 72938.

Mine: Sebastian Mine, MSHA I.D. No. 03-01736, located in Sebastian County, Arizona.

Regulation Affected: 30 CFR 75.380(d)(3) (Escapeways; bituminous and lignite mines).

Modification Request: The petitioner requests a modification of the existing standard to permit an alternative method of compliance for a secondary escapeway in lieu of the existing standard. The petitioner states that:

(1) The Sebastian Mine's secondary escapeway at crosscut 14 above the #3 intake entry of Main South over the overcast located there currently measures 33 inches high (at its lowest point on an incline with increasing height for clearance) with 20 feet of width.

(2) The coal seam's thickness, plus additional height taken for support, averages 60 inches.

(3) The stable roof and related support in the area have been in place since 2007.

(4) Both the roof and floor is solid sandstone in the area and require inadvisable drilling and shooting that could destabilize conditions if additional height was sought for the reference safety standards compliance by those methods.

(5) Shooting would require shutting down ventilation, short-circuiting almost the entire mine, killing power, not pumping, and placing the whole mine in potential distress and jeopardy.

(6) Relocating the mines secondary escapeway is not a reasonable option at this time.

(7) Based on the experience of a 5-man stretcher test conducted in this specific area, as well as over the subsequent three overcasts at the request and under the timed observation of an MSHA inspector, the petitioner proposes an alternative method of compliance.

(a) A successful test of the proposed alternative method occurred on February 27, 2014, when four Sebastian miners carried a fifth miner across all four overcasts in a timely manner approximately six and one-half minutes.

(b) To negotiate the 33 inch overcast space at crosscut 14 above the #3 intake entry of the Main South, the miner strapped on the stretcher was placed on two (2) four wheeled dollies and efficiently, and effectively transported by the other 4 miners across the area of concern in a very safe and timely manner. Most, if not all, mine rescue stretchers are wheeled.

(c) The stretchers are routinely slid through man-doors and otherwise used to transport, or train for transporting, injured miners without any requirement of 100 percent “carrying” as a misreading of the referenced standard might imply.

(d) Moving someone on a stretcher carefully on wheels can be much safer, quicker, more efficient and effective under difficult conditions or circumstances than manually carrying an injured person on a stretcher.

The petitioner further states that:

(1) The operator will at all times maintain two (2) low profile four-wheeled dollies in good working order and leave them at that location for potential use if required. The dollies will be checked monthly during mine rescue practices to confirm continual suitability for use as contingently intended.

(2) Additionally, a clear travelway will be maintained at all times for miners' regular use and for their potential use in transporting anyone injured through this area of the secondary escapeway.

The petitioner asserts that the proposed alternative method will at all times guarantee no less than the same measure or protection afforded by the existing standard.

Dated: May 16, 2014.
Sheila McConnell,
Acting Director, Office of Standards, Regulations and Variances.

[FR Doc. 2014-12113 Filed 5-23-14; 8:45 am]

BILLING CODE 4510-43-P